NUCLEAR REGULATORY COMMISSION

[Docket No. 70-3103; NRC-2024-0225]

Louisiana Energy Services, LLC, dba Urenco USA; National Enrichment Facility; License Amendment Application

AGENCY: Nuclear Regulatory Commission.

ACTION: Opportunity to request a hearing and to petition for leave to intervene.

SUMMARY: The U.S. Nuclear Regulatory Commission (NRC) staff has received an application from Louisiana Energy Services, LLC (LES), dba Urenco USA (UUSA) to amend Special Nuclear Materials (SNM) License Number No. SNM-2010. The amendment request proposes removal of License Condition 14 from Materials License No. SNM-2010.

DATES: Requests for a hearing or petition for leave to intervene must be filed by March 31, 2025.

ADDRESSES: Please refer to Docket ID NRC-2024-0225 when contacting the NRC about the availability of information regarding this action. You may obtain publicly available information related to this action using any of the following methods:

• Federal Rulemaking Website: Go to https://www.regulations.gov and search for Docket ID NRC-2024-0225. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jonathan Rowley, Office of Nuclear Material Safety and Safeguards, U.S. Nuclear Regulatory Commission, Washington, DC 20555-0001, telephone: 301-415-4053, email: Jonathan.Rowley@nrc.gov.

SUPPLEMENTARY INFORMATION:

I. Introduction

Louisiana Energy Services, LLC (LES), dba Urenco USA (UUSA), at the National Enrichment Facility, located five miles east of Eunice, New Mexico, submitted a license amendment request (LAR) to amend License No. SNM-2010 by letter dated September 1, 2023. The NRC staff issued a request for supplemental information (RSI) on the LAR to LES, dated November 28, 2023. LES responded to the RSI by letter and supplemented its LAR with Enclosure 1: UUSA License Amendment Request LAR 23-07 Amended Environmental Considerations Section, dated January 25, 2024. The National Enrichment Facility is a gas centrifuge uranium enrichment facility authorized to possess, use, and store SNM, source material, and byproduct material under Materials License SNM-2010 granted June 30, 2005. The LAR proposes deletion of License Condition 14, which prohibits the licensee from shipping depleted uranium hexafluoride to a deconversion facility that uses a deconversion process involving the production of anhydrous hydrogen fluoride (AHF). The removal of the license condition would permit the transportation of the depleted uranium hexafluoride to a deconversion facility that uses the AHF process, though currently no such facility exists in the U.S.

An NRC administrative completeness review dated February 5, 2024, found the application, as supplemented, acceptable for a technical review. On October 1, 2024, LES requested that the NRC staff temporarily suspend its review of the current LAR. Prior to reaching a decision on the request to amend SNM-2010, the NRC will conduct both a safety and environmental review. The safety review will be documented in a safety evaluation report and will present the NRC staff's findings as required by the Atomic Energy Act of 1954, as amended, and the NRC's regulations. The environmental review will be conducted in accordance with the National Environmental Policy Act of 1969, and will be documented in an environmental assessment.

II. Availability of Documents

The documents identified in the following table are available to interested persons through ADAMS.

Document description | ADAMS accession No.
NUREG-1827, Safety Evaluation Report for the National Enrichment Facility in Lea County, New Mexico, dated June 30, 2005 | ML051780290.
License for the Louisiana Energy Services National Enrichment Facility, dated June 23, 2006 | ML061780384.
Atomic Safety and Licensing Board Order LBP-05-13, In the Matter of Louisiana Energy Services, L.P. (National Enrichment Facility). Washington, DC, dated June 8, 2005 (page 385) | ML060740251.
Commission Memorandum and Order (CLI-05-28)—In the Matter of Louisiana Energy Services, L.P. (National Enrichment Facility). Washington, DC, dated November 21, 2005 | ML053250203.
UUSA License Amendment Request LAR-23-07, Revise SNM-2010 to Delete License Condition 14, dated September 1, 2023 | ML23244A191.
Enclosure 1—UUSA License Amendment Request LAR 23-07, Deletion of Licensing Condition 14, dated September 1, 2023 | ML23244A192.
Louisiana Energy Services, LLC—Request for Supplemental Information Regarding Urenco USA License Amendment Request 23-07, Revise Special Nuclear Material-2010 to Delete License Condition 14, dated November 28, 2023 | ML23324A189 (Package).
Louisiana Energy Services, LLC—Response to Request for Supplemental Information Regarding LAR 23-07 and Enclosure 1: UUSA License Amendment Request LAR 23-07 Amended Environmental Considerations Section, dated January 25, 2024 | ML24025A136.
Acceptance of LAR 23-07 for Review, dated February 5, 2024 | ML24037A190.
Request to Defer Public Posting of LAR 23-07, dated October 1, 2024 | ML24297A122.

III. Opportunity To Request a Hearing and Petition for Leave To Intervene

Within 60 days after the date of publication of this notice, any person (petitioner) whose interest may be affected by this action may file a request for a hearing and petition for leave to intervene (petition) with respect to this action. Petitions shall be filed in accordance with the Commission's “Agency Rules of Practice and Procedure” in 10 CFR part 2. Interested persons should consult 10 CFR 2.309. If a petition is filed, the presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, Federally recognized Indian Tribe, or designated agency thereof, may submit a petition to the Commission to participate as a party under 10 CFR 2.309(h) no later than 60 days from the date of publication of this notice. Alternatively, a State, local governmental body, Federally recognized Indian Tribe, or designated agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC website at https://www.nrc.gov/about-nrc/regulatory/adjudicatory/hearing.html#participate.

IV. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

Dated: January 24, 2025.
For the Nuclear Regulatory Commission.
Samantha C. Lav,
Chief, Fuel Facility Licensing Branch, Division of Fuel Management, Office of Nuclear Material Safety and Safeguards.

[FR Doc. 2025-01867 Filed 1-28-25; 8:45 am]

BILLING CODE 7590-01-P